DEPARTMENT OF THE INTERIOR

Bureau of Land Management

[LLAK-963000-L1410000-ET0000; AA-93209]

Notice of Withdrawal Application and Opportunity for Public Meeting; Alaska

AGENCY: Bureau of Land Management, Interior.

ACTION: Notice.

SUMMARY: The United States Air Force has filed an application with the Bureau of Land Management (BLM) requesting that the Secretary of the Interior withdraw approximately 640 acres of public land from settlement, sale, location, and entry under the public land laws, including the United States mining laws, but not from the mineral leasing laws, to protect the United States Air Force King Salmon Station. This notice gives the public an opportunity to comment on the proposed action and to request a public meeting.

DATES: Comments and requests for a public meeting must be received by August 20, 2012.

ADDRESSES: Comments and meeting requests should be sent to the Alaska State Director, BLM Alaska State Office, 222 West Seventh Avenue, No. 13, Anchorage, Alaska 99513-7504.

FOR FURTHER INFORMATION CONTACT: Mark Fullmer, BLM Alaska State Office, 907-271-5699 or at the address above. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The United States Air Force requests that the Secretary of the Interior, pursuant to Section 204 of the Federal Land Policy and Management Act of 1976, 43 U.S.C. 1714, withdraw the following described land for a period of 20 years from settlement, sale, location, and entry under the public land laws, including the United States mining laws, but not from leasing under the mineral leasing laws, subject to valid existing rights:

This withdrawal application is located within:

Seward Meridian

(a) Demolition Area

T. 17 S., R. 44 W.,

Sec. 33, S½NW¼ and N½N½SW¼.

The area described contains 120 acres.

(b) Petroleum, Oils, and Lubricants Tank Farm

T. 17 S., R. 45 W.,

Sec. 22, N½NW¼SE¼ and N½S½NW¼SE¼.

The area described contains 30 acres.

(c) Main Base Area

T. 17 S., R. 45 W.,

Sec. 23, NE¼, N½NW¼, SE¼NW¼, and N½SE¼.

The area described contains 360 acres.

(d) Radar Site

T. 17 S., R. 45 W.,

Sec. 24, S½N½SE¼SW¼, S½SE¼SW¼, and SW¼SW¼SE¼;

Sec. 25, W½NW¼NE¼, W½NW¼SW¼NE¼, NE¼NW¼SW¼NE¼, SW¼SW¼SW¼NE¼, NE¼NW¼, and N½SE¼NW¼.

The areas described aggregate 130 acres.

The total of the areas described aggregate 640 acres.

Records pertaining to the application can be examined in the BLM Alaska State Office at the address shown above. The land was previously segregated by Public Land Order No. 6893 on October 18, 1991, (56 FR 52210 (1991)) which subsequently expired October 17, 2011.

The withdrawal application would not alter the applicability of those public land laws governing the use of land under lease, license, or permit or governing the disposal of the mineral or vegetative resources other than under the mining laws.

The use of a right-of-way or interagency or cooperative agreement would not adequately protect the Federal interest in the King Salmon Air Force Station.

There are no suitable alternative sites available that could be substituted for the above described public land, since the King Salmon Air Force Station is unique.

No water rights would be needed to fulfill the purpose of the requested withdrawal application.

For a period of 90 days from the date of publication of this notice, all persons who wish to submit comments, suggestions, or objections in connection with the withdrawal application may present their views in writing to the BLM Alaska State Director at the address indicated above. Before including your address, phone number, email address, or other personal identifying information in your comment, you should be aware that your entire comment—including your personal identifying information—may be made publicly available at any time. While you can ask us in your comment to withhold your personal identifying information from public review, we cannot guarantee that we will be able to do so.

Notice is hereby given that an opportunity for a public meeting is afforded in connection with the withdrawal application. All interested parties who desire a public meeting for the purpose of being heard on the withdrawal application must submit a written request to the BLM Alaska State Director within 90 days from the date of publication of this notice. Upon determination by the authorized officer that a public meeting will be held, a notice of the time and place will be published in the Federal Register and at least one local newspaper at least 30 days before the scheduled date of the meeting.

The withdrawal application will be processed in accordance with the regulations set forth at 43 CFR part 2300 and is subject to Section 810 of the Alaska National Interest Lands Conservation Act, (16 U.S.C. 3120).

Authority: 43 CFR 2310.3-1(b).

Mark Fullmer,
Acting Chief, Branch of Lands and Realty.

[FR Doc. 2012-12231 Filed 5-18-12; 8:45 am]

BILLING CODE 1410-JA-P